NATIONAL SCIENCE FOUNDATION

Committee Management; Notice of Reestablishment

The Chief Operating Officer of the National Science Foundation has determined that the reestablishment of the Advisory Committee for Polar Programs is necessary and in the public interest in connection with the performance of the duties imposed upon the National Science Foundation (NSF) by 42 U.S.C. 1861 et seq. This determination follows consultation with the Committee Management Secretariat, General Services Administration.

Name of Committee: Advisory Committee for Polar Programs (#1130)

1. Nature/Purpose: The Advisory Committee for Polar Programs will provide advice and recommendations to the National Science Foundation concerning support for polar research, education, infrastructure and logistics, and related activities.

Responsible NSF Official: Kelly K. Falkner, Head, Office of Polar Programs, National Science Foundation, 4201 Wilson Boulevard, Stafford I, Suite 755 S, Arlington, VA 22230. Telephone: 703/292-8030

Dated: February 22, 2017.
Crystal Robinson,
Committee Management Officer.

[FR Doc. 2017-03745 Filed 2-24-17; 8:45 am]

BILLING CODE 7555-01-P